DEPARTMENT OF COMMERCE

National Institute of Standards and Technology

National Fire Codes: Request for Comments on NFPA Technical Committee Reports

AGENCY: National Institute of Standards and Technology, Commerce.

ACTION: Notice.

SUMMARY: The National Fire Protection Association (NFPA) revises existing standards and adopts new standards twice a year. At its November meeting or its May meeting, the NFPA acts on recommendations made by its technical committees.

The purpose of this notice is to request comments on the technical reports that will be presented at NFPA's 2005 May meeting. The publication of this notice by the National Institute of Standards and Technology (NIST) on behalf of NFPA is being undertaken as a public service; NIST does not necessarily endorse, approve, or recommend any of the standards referenced in the notice.

DATES: Forty-three reports are published in the 2005 May Meeting Report on Proposals and will be available on July 30, 2004. Comments received on or before October 8, 2004, will be considered by the respective NFPA Committees before final action is taken on the proposals.

ADDRESSES: The 2005 May Meeting Report on Proposals is available and downloadable from NFPA's Web site— http://www.nfpa.org or by requesting a copy from the NFPA, Fulfillment Center, 11 Tracy Drive, Avon, Massachusetts 02322. Comments on the report should be submitted to Casey C. Grant, Secretary, Standards Council, NFPA, 1 Batterymarch Park, PO Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Revisions of existing standards and adoption of new standards are reported by the technical committees at the NFPA's November meeting or at the May meeting each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before October 8, 2004, for the 2005 May Meeting Report on Proposals will be considered by the NFPA before final action is taken on the proposals.

Copies of all written comments received and the disposition of those comments by the NFPA committees will be published as the 2005 May Meeting Report on Comments by April 1, 2005, prior to the May meeting.

A copy of the Report on Comments will be sent automatically to each commenter. Action on the reports of the Technical Committees (adoption or rejection) will be taken at the May meeting, May 22-26, 2004, in Indianapolis, Indiana, by NFPA members.

2005 May Meeting

Report on Proposals
(P = Partial revision; W = Withdrawal; R = Reconfirmation; N = New; C = Complete Revision)
NFPA 1 | Uniform Fire Code™ | P
NFPA 18 | Standard on Wetting Agents | C
NFPA 52 | Compressed Natural Gas (CNG) Vehicular Fuel Systems Code | C
NFPA 54 | National Fuel Gas Code | P
NFPA 57 | Liquefied Natural Gas (LNG) Vehicular Fuel Systems Code | W
NFPA 59A | Standard for the Production, Storage, and Handling of Liquefied Natural Gas (LNG) | C
NFPA 73 | Electrical Inspection Code for Existing Dwellings | C
NFPA 90A | Standard for the Installation of Air-Conditioning and Ventilating Systems | P
NFPA 90B | Standard for the Installation of Warm Air Heating and Air-Conditioning Systems | P
NFPA 92A | Recommended Practice for Smoke-Control Systems | C
NFPA 101 | Life Safety Code® | P
NFPA 160 | Standard for Flame Effects Before an Audience | C
NFPA 170 | Standard for Fire Safety Symbols | P
NFPA 203 | Guide on Roof Coverings and Roof Deck Constructions | W
NFPA 220 | Standard on Types of Building Construction | P
NFPA 221 | Standard for Fire Walls and Fire Barrier Walls | C
NFPA 230 | Standard for the Fire Protection of Storage | W
NFPA 251 | Standard Methods of Tests of Fire Endurance of Building Construction and Materials | C
NFPA 253 | Standard Method of Test for Critical Radiant Flux of Floor Covering Systems Using a Radiant Heat Energy Source | C
NFPA 255 | Standard Method of Test of Surface Burning Characteristics of Building Materials | C
NFPA 269 | Standard Test Method for Developing Toxic Potency Data for Use in Fire Hazard Modeling | W
NFPA 285 | Standard Method of Test for the Evaluation of Flammability Characteristics of Exterior Non-Load-Bearing Wall Assemblies Containing Combustible Components Using the Intermediate-Scale, Multistory Test Apparatus | C
NFPA 286 | Standard Methods of Fire Tests for Evaluating Contribution of Wall and Ceiling Interior Finish to Room Fire Growth | C
NFPA 303 | Fire Protection Standard for Marinas and Boatyards | C
NFPA 307 | Standard for the Construction and Fire Protection of Marine Terminals, Piers, and Wharves | C
NFPA 312 | Standard for Fire Protection of Vessels During Construction, Repair, and Lay-Up | C
NFPA 318 | Standard for the Protection of Semiconductor Fabrication Facilities | P
NFPA 484 | Standard for Combustible Metals, Metal Powders, and Metal Dusts | P
NFPA 495 | Explosive Materials Code | C
NFPA 498 | Standard for Safe Havens and Interchange Lots for Vehicles Transporting Explosives | C
NFPA 505 | Fire Safety Standard for Powered Industrial Trucks Including Type Designations, Areas of Use, Conversions, Maintenance, and Operation | P
NFPA 654 | Standard for the Prevention of Fire and Dust Explosions from the Manufacturing, Processing, and Handling of Combustible Particulate Solids | C
NFPA 703 | Standard for Fire Retardant Impregnated Wood and Fire Retardant Coatings for Building Materials | C
NFPA 730 | Guide for Premises Security | N
NFPA 731 | Standard for the Installation of Electronic Premises Security Systems | N
NFPA 1000 | Standard for Fire Service Professional Qualifications Accreditation and Certification Systems | C
NFPA 1071 | Standard for Emergency Vehicle Technician Professional Qualifications | C
NFPA 1123 | Code for Fireworks Display | C
NFPA 1124 | Code for the Manufacture, Transportation, Storage and Retail Sales of Fireworks and Pyrotechnic Articles | C
NFPA 1126 | Standard for the Use of Pyrotechnics before a Proximate Audience | C
NFPA 1145 | Guide for the Use of Class A Foams in Manual Structural Fire Fighting | C
NFPA 2010 | Standard on Aerosol Fire Extinguishing Systems | N
NFPA 5000 | Building Construction and Safety Code™ | P

Dated: May 21, 2004.
Hratch Semerjian,
Acting Director.

[FR Doc. 04-12186 Filed 5-27-04; 8:45 am]

BILLING CODE 3510-13-P